DEPARTMENT OF TRANSPORTATION

Federal Aviation Administration

14 CFR Part 73

Docket No. FAA-2003-16531; Airspace Docket No. 96-ASO-10

RIN 2120-AA66

Proposed Modification and Revocation of Restricted Areas 3007A, B, C, D, and E; Townsend, GA

AGENCY: Federal Aviation Administration (FAA), DOT.

ACTION: Supplemental notice of proposed rulemaking (SNPRM).

SUMMARY: This action proposes to reconfigure the existing restricted area (R-3007) over the Townsend Range, GA, by reducing the lateral size and raising the vertical limits of the area. Additionally, this action proposes to change the using agency of the area, and increase the time of designation. The FAA is proposing this action to better accommodate Department of Defense (DOD) training requirements and enable more efficient use of the airspace. This action supplements a previously published document.

DATES: Comments must be received on or before March 19, 2004.

ADDRESSES: Send comments on this proposal to the Docket Management System, U.S. Department of Transportation, Room Plaza 401, 400 Seventh Street, SW., Washington,DC 20590-0001. You must identify FAA Docket No. FAA-2003-16531, and Airspace Docket No. 96-ASO-10, at the beginning of your comments. You may also submit comments on the Internet at http://dms.dot.gov.

FOR FURTHER INFORMATION CONTACT: Paul Gallant, Airspace and Rules Division, ATA-400, Office of Air Traffic Airspace Management, Federal Aviation Administration, 800 Independence Avenue, SW., Washington, DC 20591; telephone: (202) 267-8783.

SUPPLEMENTARY INFORMATION:

Comments Invited

Interested parties are invited to participate in this proposed rulemaking by submitting such written data, views, or arguments, as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No.FAA-2003-16531, and Airspace Docket No. 96-ASO-10) and be submitted in triplicate to the Docket Management System (see ADDRESSES section for address and phone number). You may also submit comments through the Internet at http://dms.dot.gov.

Commenters wishing the FAA to acknowledge receipt of their comments on this notice must submit with those comments a self-addressed, stamped postcard on which the following statement is made: “Comments to FAA Docket No. FAA-2003-16531, and Airspace Docket No. 96-ASO-10.” The postcard will be date/time stamped and returned to the commenter.

All communications received on or before the specified closing date for comments will be considered before taking action on the proposed rule. The proposal contained in this notice may be changed in light of comments received. All comments submitted will be available for examination in the public docket both before and after the closing date for comments. A report summarizing each substantive public contact with FAA personnel concerned with this rulemaking will be filed in the docket.

Availability of Notice of Proposed Rulemaking (NPRM)

An electronic copy of this document may be downloaded through the Internet at http://dms.dot.gov. Recently published rulemaking documents can also be accessed through the FAA's Web page at http://www.faa.gov, or the Federal Register's Web page at http://www.gpoaccess.gov/fr/index.html.

You may review the public docket containing the proposal, any comments received, and any final disposition in person in the Dockets Office (see ADDRESSES section for address and phone number) between 9 a.m. and 5 p.m., Monday through Friday, except Federal holidays. An informal docket may also be examined during normal business hours at the office of the Regional Air Traffic Division, Federal Aviation Administration, Southern Region Headquarters, 1701 Columbia Avenue, College Park, GA 30337.

Persons interested in being placed on a mailing list for future NPRM's should call the FAA's Office of Rulemaking, (202) 367-9677, for a copy of Advisory Circular No. 11-2A, Notice of Proposed Rulemaking Distribution System, which describes the application procedure.

Background

On December 5, 1996, the FAA published an NPRM to modify the restricted airspace area over Townsend Range, GA complex, by reducing the lateral size of the area, raising the vertical limits, and increasing the time of designation. In addition, the FAA proposed to change the using agency of the area (61 FR 64494). The comment period for this proposal closed on January 21, 1997. No comments were received in response to the notice.

On June 18, 1997, the proponent requested that the FAA suspend further action on this proposal pending the proponent's completion of additional airspace and environmental studies of the Coastal Military Operations Area proposal. Considering the extended time that has elapsed since the original NPRM was published, the FAA is now providing this supplemental notice in order to solicit additional public comment on the proposal.

The Proposal

The FAA is proposing an amendment to title 14 Code of Federal Regulations(14 CFR) part 73 (part 73) to modify Restricted Areas 3007A, B, C, D, and E(R-3007A, B, C, D, and E), at Townsend Range, GA, to better accommodate DOD training requirements, eliminate restricted airspace no longer required for military training, and enable more efficient use of airspace.

This proposed amendment would delete all restricted airspace currently contained in R-3007A, and approximately half of the restricted airspace currently described as R-3007B. The remaining existing restricted airspace would be redesignated as R-3007A, B, or C. Specifically, R-3007E would be revoked and its circular surface target area would be designated as R-3007A. The current R-3007D would be designated as R-3007B, and the existing R-3007C would be revised to incorporate the remaining portion of the former R-3007B.

A new restricted area, R-3007D, would be established above the proposed R-3007A, B, and C raising the ceiling of restricted airspace from 13,000 feet above sea level (MSL) to flight level (FL) 250. The purpose of the proposed R-3007D is to accommodate high altitude, high angle weapons delivery training.

This action also proposes a six hour daily increase in the time of designation for the revised Townsend Range complex from the current “Monday-Friday, 0800-1700 local time, other times by NOTAM at least 24 hours in advance,” to “0700-2200 local time Monday-Friday, other times by NOTAM at least 24 hours in advance.” This change is proposed to permit more flexible range utilization and accommodate increased night training requirements. Additionally, the proposed increase would more accurately inform other National Airspace System users of time periods when the range may be in use, as well as reduce NOTAM system workload.

Finally, the using agency name for all sub-areas would be changed from “Savannah Air National Guard Training Site, Garden City, GA,” to “ANG, Savannah Combat Readiness Training Center, GA,” to reflect the current organizational name. The Townsend Range complex will be a joint-use airspace and the restricted areas will be returned to the controlling agency on a real-time basis when not required for military activities.

Section 73.30 of part 73 of the Federal Aviation Regulations was republished in FAA Order 7400.8L dated October 7, 2003.

The FAA has determined that this proposed regulation only involves an established body of technical regulations for which frequent and routine amendments are necessary to keep them operationally current. Therefore, this proposed regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subjected to the appropriate environmental analysis in accordance with the FAA Order 1050.1D, Policies and Procedures for Considering Environmental Impacts, prior to any FAA final regulatory action.

List of Subjects in 14 CFR Part 73

Airspace, Navigation (air).

The Proposed Amendment

In consideration of the foregoing, the Federal Aviation Administration proposes to amend 14 CFR part 73 as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.30 [Amended]

2. § 73.30 is amended as follows:

* * * * *

R—3007A Townsend, GA (Revised)

Boundaries. A circular area with a 1.5-mile radius centered at lat. 31°33′16″ N., long. 81°34′44″ W.

Designated altitudes. Surface to but not including 13,000 feet MSL.

Time of designation. 0700-2200 local time, Monday-Friday; other times by NOTAM at least 24 hours in advance.

Controlling agency. FAA, Jacksonville ARTCC.

Using agency. ANG, Savannah Combat Readiness Training Center, GA.

R—3007B Townsend, GA (Revised)

Boundaries. Beginning at lat. 31°38′01″ N., long. 81°28′59″ W.;

to lat. 31°37′31″ N., long. 81°28′14″ W.;

to lat. 31°32′31″ N., long. 81°27′29″ W.;

to lat. 31°26′16″ N., long. 81°31′29″ W.;

to lat. 31°25′31″ N., long. 81°35′59″ W.;

to lat. 31°27′26″ N., long. 81°33′39″ W.;

to lat. 31°31′16″ N., long. 81°31′59″ W.;

thence along a 1 NM radius arc clockwise of a point centered at lat. 31°32′26″ N., long. 81°31′49″ W.;

to lat. 31°33′16″ N., long. 81°31′14″ W.;

to the point of beginning.

Designated altitudes. 1,200 feet AGL to but not including 13,000 feet MSL.

Time of designation. 0700-2200 local time, Monday-Friday; other times by NOTAM at least 24 hours in advance.

Controlling agency. FAA, Jacksonville ARTCC.

Using agency. ANG, Savannah Combat Readiness Training Center, GA.

R—3007C Townsend, GA (Revised)

Boundaries. Beginning at lat. 31°38′01″ N., long. 81°46′59″ W.;

to lat. 31°42′31″ N., long. 81°33′59″ W.;

to lat. 31°38′01″ N., long. 81°28′59″ W.;

to lat. 31°33′16″ N., long. 81°31′14″ W.;

thence along a 1 NM radius arc counterclockwise of a point centered at lat. 31°32′26″ N., long. 81°31′49″ W.;

to lat. 31°31′16″ N., long. 81°31′59″ W.;

to lat. 31°27′26″ N., long. 81°33′39″ W.;

to lat. 31°25′31″ N., long. 81°35′59″ W.;

thence west along the Altamaha River to the point of beginning; excluding R-3007A.

Designated altitudes. 100 feet AGL to but not including 13,000 feet MSL.

Time of designation. 0700-2200 local time, Monday-Friday; other times by NOTAM at least 24 hours in advance.

Controlling agency. FAA, Jacksonville ARTCC.

Using agency. ANG, Savannah Combat Readiness Training Center, GA.

R—3007D Townsend, GA (Revised)

Boundaries. Beginning at lat. 31°38′01″ N., long. 81°46′59″ W.;

to lat. 31°42′31″ N., long. 81°33′59″ W.;

to lat. 31°38′01″ N., long. 81°28′59″ W.;

to lat. 31°37′31″ N., long. 81°28′14″ W.;

to lat. 31°32′31″ N., long. 81°27′29″ W.;

to lat. 31°26′16″ N., long. 81°31′29″ W.;

to lat. 31°25′31″ N., long. 81°35′59″ W.;

thence northwest along the Altamaha River to the point of beginning.

Designated altitudes. 13,000 feet MSL to FL 250.

Time of designation. 0700-2200 local time, Monday-Friday; other times by NOTAM at least 24 hours in advance.

Controlling agency. FAA, Jacksonville ARTCC.

Using agency. ANG, Savannah Combat Readiness Training Center, GA.

R—3007E Townsend, GA (Remove)

* * * * *

Issued in Washington, DC, on January 20, 2004.
Reginald C. Matthews,
Manager, Airspace and Rules Division.

[FR Doc. 04-2178 Filed 2-2-04; 8:45 am]

BILLING CODE 4910-13-P